DEPARTMENT OF STATE

Public Notice; 30-Day Notice of Proposed Information Collection: Smart Traveler Enrollment Program

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to April 25, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek Rivers, Bureau of Consular Affairs, Overseas Citizens Services (CA/OCS/PMO), who may be reached on 202-485-6332 or at RiversDA@state.gov.

SUPPLEMENTARY INFORMATION:

• Title of Information Collection: Smart Traveler Enrollment Program

• OMB Control Number: 1405-0152

• Type of Request: Revision of a Currently Approved Collection

• Originating Office: Bureau of Consular Affairs, CA/OCS/PMO

• Form Number: DS-4024, DS-4024e

• Respondents: United States Citizens and Nationals

• Estimated Number of Respondents: 1,010,389

• Estimated Number of Responses: 1,010,389

• Average Time per Response: 20 minutes

• Total Estimated Burden Time: 336,796 hours

• Frequency: On Occasion

• Obligation To Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Smart Traveler Enrollment Program (STEP) makes it possible for U.S. nationals to register on-line from anywhere in the world. In the event of a family emergency, natural disaster or international crisis, U.S. embassies and consulates rely on this registration information to provide critical information and assistance to them. 22 U.S.C. 2715 is one of the main legal authorities that deem the usage of this form necessary.

Methodology

99% of responses are received via electronic submission on the Internet. The service is available on the Department of State, Bureau of Consular Affairs Web site http://travel.state.gov at https://step.state.gov/step/. The paper version of the collection permits respondents who do not have Internet access to provide the information to the U.S. embassy or consulate by fax, mail or in person.

Dated: March 11, 2016.
Michelle Bernier-Toth,
Managing Director, Bureau of Consular Affairs, Overseas Citizen Services, Department of State.

[FR Doc. 2016-06693 Filed 3-24-16; 8:45 am]

BILLING CODE 4710-06-P